DEPARTMENT OF COMMERCE

National Oceanic and Atmospheric Administration

RIN 0648-XN31

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 7-13, 2009. The Council meeting will begin on Sunday, March 8, 2009, at 8 a.m., reconvening each day through Friday. All meetings are open to the public, except a closed session will be held from 8 a.m. until 9 a.m. on Sunday, March 8 to address litigation and personnel matters. The Council will meet as late as necessary each day to complete its scheduled business.

ADDRESSES: Meetings of the Council and its advisory entities will be held at the Marriott Hotel Seattle Airport, 3201 South 176th Street, Seattle, WA 98188; telephone: (206) 241-2000.

Council address: Pacific Fishery Management Council, 7700 NE Ambassador Place, Suite 101, Portland, OR 97220.

FOR FURTHER INFORMATION CONTACT: Dr. Donald O. McIsaac, Executive Director; telephone: (503) 820-2280 or (866) 806-7204 toll free.

SUPPLEMENTARY INFORMATION: The following items are on the Council agenda, but not necessarily in this order:

A. Call to Order

1. Opening Remarks and Introductions

2. Roll Call

3. Executive Director's Report

4. Approve Agenda

B. Open Comment Period

Comments on Non-Agenda Items

C. Coastal Pelagic Species Management

1. Stock Assessment Review Panel Terms of Reference for 2009

2. Experimental Fishing Permit for Sardine Research

3. Fishery Management Plan Amendments to Implement the Magnuson-Stevens Reauthorization Act

D. Salmon Management

1. Review of 2008 Fisheries and Summary of 2009 Stock Abundance Estimates

2. Identification of Stocks Not Meeting Conservation Objectives

3. Identification of Management Objectives and Preliminary Definition of 2009 Salmon Management Options

4. Council Recommendations for 2009 Management Option Analysis

5. (Further) Council Direction for 2009 Management Options (if necessary)

6. Fishery Management Plan Amendments to Implement the Magnuson-Stevens Reauthorization Act

7. Adoption of 2009 Management Options for Public Review

8. Appoint Salmon Hearings Officers

E. Enforcement Issues

U.S. Coast Guard Annual West Coast Fishery Enforcement Report

F. Pacific Halibut Management

1. Report on the International Pacific Halibut Commission Meeting

2. Incidental Catch Regulations in the Salmon Troll and Fixed Gear Sablefish Fisheries

G. Groundfish Management

1. Pacific Whiting Harvest Specifications and Management Measures for 2009

2. Consideration of Inseason Adjustments

3. Fishery Management Plan Amendment 20 - Trawl Rationalization (Scoping of Ownership Trailing Action and Miscellaneous Clarifications)

4. Fishery Management Plan Amendment 20 - Trawl Rationalization (Final Accumulation Limits)

5. Fishery Management Plan Amendment 22: Open Access License Limitation

6. National Marine Fisheries Service Report

7. Final Consideration of Inseason Adjustments (if needed)

8. Essential Fish Habitat Review Committee Terms of Reference

H. Habitat

Current Habitat Issues

I. Administrative Matters

1. Membership Appointments and Council Operating Procedures

2. Approval of Council Meeting Minutes

3. Future Council Meeting Agenda and Workload Planning

SCHEDULE OF ANCILLARY MEETINGS
Saturday, March 7, 2009.
Scientific and Statistical Committee | 8 a.m
Groundfish Management Team | 9 a.m
Sunday, March 8, 2009.
Council Secretariat | 7 a.m
California State Delegation | 7 a.m
Oregon State Delegation | 7 a.m
Washington State Delegation | 7 a.m
Groundfish Advisory Subpanel | 8 a.m
Groundfish Management Team | 8 a.m
Salmon Advisory Subpanel | 8 a.m
Salmon Technical Team | 8 a.m
Scientific and Statistical Committee | 8 a.m
Enforcement Consultants | 4:30 p.m
Monday, March 9, 2009.
Council Secretariat | 7 a.m
California State Delegation | 7 a.m
Oregon State Delegation | 7 a.m
Enforcement Consultants | 8 a.m
Groundfish Advisory Subpanel | 8 a.m
Groundfish Management Team | 8 a.m
Salmon Advisory Subpanel | 8 a.m
Salmon Technical Team | 8 a.m
Tribal Policy Group | As necessary
Tribal and Washington Technical Group | As necessary
Washington State Delegation | As necessary
Tuesday, March 10, 2009.
Council Secretariat | 7 a.m
California State Delegation | 7 a.m
Oregon State Delegation | 7 a.m
Groundfish Advisory Subpanel | 8 a.m
Groundfish Management Team | 8 a.m
Salmon Advisory Subpanel | 8 a.m
Salmon Technical Team | 8 a.m
Enforcement Consultants | As necessary
Tribal Policy Group | As necessary
Tribal and Washington Technical Group | As necessary
Washington State Delegation | As necessary
Wednesday, March 11, 2009.
Council Secretariat | 7 a.m
California State Delegation | 7 a.m
Oregon State Delegation | 7 a.m
Groundfish Advisory Subpanel | 8 a.m
Groundfish Management Team | 8 a.m
Salmon Advisory Subpanel | 8 a.m
Salmon Technical Team | 8 a.m
Habitat Committee | 8:30 a.m
Enforcement Consultants | As necessary
Tribal Policy Group | As necessary
Tribal and Washington Technical Group | As necessary
Washington State Delegation | As necessary
Thursday, March 12, 2009.
Council Secretariat | 7 a.m
California State Delegation | 7 a.m
Oregon State Delegation | 7 a.m
Groundfish Advisory Subpanel | 8 a.m
Groundfish Management Team | 8 a.m
Salmon Advisory Subpanel | 8 a.m
Salmon Technical Team | 8 a.m
Habitat Committee | 8:30 a.m
Enforcement Consultants | As necessary
Tribal Policy Group | As necessary
Tribal and Washington Technical Group | As necessary
Washington State Delegation | As necessary
Friday, March 13, 2009.
Council Secretariat | 7 a.m
California State Delegation | 7 a.m
Oregon State Delegation | 7 a.m
Groundfish Advisory Subpanel | As necessary
Groundfish Management Team | As necessary
Enforcement Consultants | As necessary
Tribal Policy Group | As necessary
Tribal and Washington Technical Group | As necessary
Washington State Delegation | As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: February 11, 2009.
Tracey L. Thompson,
Acting Director, Office of Sustainable Fisheries, National Marine Fisheries Service.

[FR Doc. E9-3302 Filed 2-13-09; 8:45 am]

BILLING CODE 3510-22-S